DEPARTMENT OF COMMERCE

Foreign-Trade Zones Board

[B-64-2015]

Foreign-Trade Zone (FTZ) 230—Piedmont Triad Area, North Carolina Authorization of Production Activity, Deere-Hitachi Construction Machinery Corporation (Hydraulic Excavators), Kernersville, North Carolina

On September 8, 2015, the Piedmont Triad Partnership, grantee of FTZ 230, submitted a notification of proposed production activity to the FTZ Board on behalf of Deere-Hitachi Construction Machinery Corporation, within FTZ 230—Site 30, in Kernersville, North Carolina.

The notification was processed in accordance with the regulations of the FTZ Board (15 CFR part 400), including notice in the Federal Register inviting public comment (80 FR 57785, September 25, 2015). The FTZ Board has determined that no further review of the activity is warranted at this time. The production activity described in the notification is authorized, subject to the FTZ Act and the Board's regulations, including Section 400.14.

Dated: January 6, 2016.
Andrew McGilvray,
Executive Secretary.

[FR Doc. 2016-00451 Filed 1-11-16; 8:45 am]

BILLING CODE 3510-DS-P